NATIONAL AERONAUTICS AND SPACE ADMINISTRATION

[Notice (09-041)]

Notice of Centennial Challenges—2009 Lunar Lander Challenge

AGENCY: National Aeronautics and Space Administration (NASA).

ACTION: Notice of Centennial Challenges—2009 Lunar Lander Challenge

SUMMARY: This notice is issued in accordance with 42 U.S.C. 2451(314)(d). The 2009 Lunar Lander Challenge is now scheduled and teams that wish to compete may soon register (see contact information below). The NASA Centennial Challenges is a program of prize contests to stimulate innovation and competition in technologies of interest and value to NASA and the nation. The Lunar Lander Challenge is a prize competition designed to accelerate technology developments in reusable rocket-powered vehicles including vehicles capable of ferrying cargo or humans between lunar orbit and the lunar surface as well as future Earth launch vehicles or other rocket-powered vehicles. The Lunar Lander Challenge is administered for NASA by the X Prize Foundation. The prize purse is funded by NASA.

DATES: The 2009 Lunar Lander Challenge will be held as an open period of competition for flight attempts between July 1, 2009, and October 31, 2009.

LOCATION: The 2009 Lunar Lander Challenge attempts will be conducted at locations chosen by the competing teams.

FOR FURTHER INFORMATION: To register for and get additional information regarding the 2009 Lunar Lander Challenge including rules, team agreements, eligibility and prize criteria, visit the Web site at http://space.xprize.org/ng-lunar-lander-challenge or contact Mr. William Pomerantz, X Prize Foundation, 5510 Lincoln Blvd., Suite 100, Playa Vista, CA 90094, phone: 310.741.4910, e-mail: will@xprize.org. Questions and comments regarding the NASA Centennial Challenges Program should be addressed to Mr. Andrew Petro, NASA Headquarters, Washington, DC, phone: 202-358-0310 e-mail: andrew.j.petro@nasa.gov. The Centennial Challenges Web site is http://www.ip.nasa.gov/cc.

SUPPLEMENTARY INFORMATION: To qualify to win a prize in this challenge, a rocket-propelled vehicle with an assigned payload must take off vertically, climb to a defined altitude, fly for a pre-determined amount of time, then land vertically on a target that is a fixed distance from the take-off point. After remaining at this location for a period of time, the vehicle must take off, fly for the same amount of time, and land again on its original launch pad.

The remaining prize purse for this challenge is $1,650,000 distributed as follows: Level 2 1st prize: $1,000,000, Level 2 2nd prize: $500,000 and Level 1 2nd prize: $150,000. The Level 1 1st prize of $350,000 was awarded in 2008.

In the case of individuals, prizes can only be awarded to US citizens or permanent residents and in the case of corporations or other entities, prizes can only be awarded to those that are incorporated in and maintain a primary place of business in the United States.

Dated: May 14, 2009.
Douglas A. Comstock,
Director, Innovative Partnerships Program.

[FR Doc. E9-11921 Filed 5-26-09; 8:45 am]

BILLING CODE P